DEPARTMENT OF LABOR

Employment and Training Administration

[TA-W-52,715]

Tingley Rubber Corporation, South Plainfield, NJ; Negative Determination Regarding Eligibility To Apply for Worker Adjustment Assistance

Pursuant to section 221 of the Trade Act of 1974, as amended, an investigation was initiated on September 2, 2003, in response to a petition filed by the United Steelworkers of America on behalf of workers of Tingley Rubber Corporation, South Plainfield, New Jersey. The workers produced protective rubber and PVC footwear.

The petitioning group of workers is covered by an active certification issued on August 15, 2003, and which remains in effect (TA-W-39,814, as amended). Consequently, further investigation in this case would serve no purpose, and the investigation has been terminated.

Signed in Washington, DC, this 8th day of October, 2003.
Elliott S. Kushner,
Certifying Officer, Division of Trade Adjustment Assistance.

[FR Doc. 03-29123 Filed 11-20-03; 8:45 am]

BILLING CODE 4510-30-P